DEPARTMENT OF AGRICULTURE

Forest Service

Dakota Prairie Grasslands, McKenzie Ranger District; North Dakota; NE McKenzie Allotment Management Plan Revisions

AGENCY: Forest Service, USDA.

ACTION: Notice of intent to prepare an environmental impact statement.

SUMMARY: The McKenzie Ranger District, Dakota Prairie Grasslands, proposes to authorize grazing on 28 allotments in Pastures 12, 13, and 14 in a manner consistent with direction set forth in the Dakota Prairie Grasslands Land and Resource Management Plan and applicable laws. The EIS will lay the groundwork for revising the Allotment Management Plans (AMPs). Site-specific resource objectives, allowable grazing strategies, and adaptive management tools will be set forth in the EIS in order to allow managers flexibility to meet objectives.

DATES: Comments concerning the scope of the analysis must be received within 14 days of publication of this notice in the Federal Register. The draft environmental impact statement is expected by January 2005 and the final environmental impact statement is expected by April 2005.

ADDRESSES: Send written comments to Frank Guzman, District Ranger, McKenzie Ranger District, 1901 South Main Street, Watford City, ND 58854 or e-mail your comments to comments-northern-dakota-prairie-mckenzie@fs.fed.us.

FOR FURTHER INFORMATION CONTACT: Libby Knotts, Project Leader, McKenzie Ranger District, USDA Forest Service at the above address or call (701) 842-2393.

SUPPLEMENTARY INFORMATION:

Purpose and Need for Action

The Forest Service needs to revise existing allotment management plans to be consistent with direction of the recently developed Dakota Prairie Grasslands Land and Resource Management Plan, referred to as the Grasslands Plan. A Record of Decision was signed for the Grasslands Plan on July 31, 2002. As required by its Record of Decision, a scientific review team is analyzing 64 sample allotment management plans to determine whether the Grasslands Plan can be implemented with effects similar to those anticipated by the Forest Service. Planning efforts, such as this project, may occur during the scientific review, but final decisions will not be made on allotment management plans until the review process is complete. If the review process requires changes in the Grasslands Plan, the changes will be incorporated into this project as appropriate.

Proposed Action

The Forest Service proposes to authorize grazing on 28 allotments in Pastures 12, 13, and 14 of the McKenzie Ranger District in a manner consistent with direction in the Grasslands Plan and applicable laws. The proposal takes an adaptive management approach to allow flexibility for both the Forest Service and the livestock operators to manage properly under changing conditions.

The Forest Service has developed allotment-specific desired conditions, needs, and adaptive management proposals designed to meet the overall purpose and need for the project area. Stocking rates will be determined annually based on progress toward desired conditions, weather conditions and considering needs of the livestock operators.

Affected resources will be monitored to determine whether they are moving toward or meeting desired conditions. If desired conditions are not being met, or measurable progress is not being made toward them, then adaptive management practices will be employed.

Possible Alternatives

A No-Action alternative, which would continue grazing, as currently authorized, will be considered. A No-Grazing alternative, which would exclude all domestic livestock grazing, will also be considered. Other alternatives may be developed in response to comments.

Responsible Official

Frank Guzman, McKenzie District Ranger, is the responsible official. See address under the ADDRESSES section above.

Nature of Decision To Be Made

The District Ranger will decide whether to authorize grazing, whether to implement specific changes in grazing management to meet desired conditions, what optional grazing strategies may be used to meet desired conditions, what monitoring items need to be included, and whether any amendments to the Grasslands Plan are required.

Scoping Process

The Forest Service mailed scoping packages on the proposed action to 115 potentially interested or affected individuals, organizations, local and state governments, and local, state and federal agencies on April 9, 2004, with a request for responses by May 14, 2004. In the cover letter, it was stated that the Forest Service's intent was to prepare an environmental assessment for the project, but that if scoping results or further analysis indicated that the project might have significant environmental impacts, an environmental impact statement would be prepared. A public open house was held in Watford City, ND on April 29, 2004. The Forest Service has decided to prepare an environmental impact statement. This notice of intent invites additional public comment on the proposal and initiates the preparation of the environmental impact statement. Due to the extensive scoping effort already conducted, no further scoping meetings or mailings are planned. The public is encouraged to take part in the planning process and to visit with Forest Service officials any time during the analysis and prior to the decision. While public participation in this analysis is welcome at any time, comments received within 14 days of the publication of this notice will be especially useful in the preparation of the draft environmental impact statement.

Preliminary Issues

Issues identified through preliminary work and previous scoping of similar projects include effects of implementing the proposed action on individual livestock grazing operators and the local economy, effects of livestock grazing on habitat for the management indicator species sharp-tailed grouse, effects of livestock grazing on riparian areas, effects of livestock grazing on sensitive species, and effects of the drought strategy on livestock operations, wildlife and plants.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 3, 2004.
Frank V. Guzman,
District Ranger.

[FR Doc. 04-18218 Filed 8-9-04; 8:45 am]

BILLING CODE 3410-11-M